DEPARTMENT OF HEALTH AND HUMAN SERVICES

Health Resources and Services Administration

National Practitioner Data Bank Temporary Waiver of User Fees for Eligible Entities

AGENCY: Health Resources and Services Administration (HRSA), Department of Health and Human Services.

ACTION: Notice.

SUMMARY: Pursuant to its authority under federal regulations for the National Practitioner Data Bank (NPDB), HRSA's Division of Practitioner Data Bank announces a temporary waiver of user fees for NPDB queries from March 1, 2020, through May 31, 2020, to support our eligible entities in making credentialing, hiring, privileging, and licensing decisions in combatting the COVID-19 pandemic. The waiver includes all one-time queries and continuous queries during the waiver time period. Fees for self-queries will not be waived. The NPDB is a confidential information clearinghouse created by Congress and is intended to facilitate a comprehensive review of the professional credentials of health care practitioners, entities, providers, and suppliers. In response to President Trump's declaration of a national emergency and associated emergency declarations by all states, the federal government, state governments, and many health care entities have taken unprecedented steps regarding licensure portability and the deployment of health workforce resources, including the expansion of telemedicine and granting of disaster privileges. HRSA's NPDB is in a unique position to temporarily waive fees, granting NPDB access to the nation's hospitals, health centers, health plans, state licensing boards, federal agencies, and other eligible health care entities in support of their efforts to mobilize and appropriately deploy health workforce professionals.

DATES: The NPDB waiver is effective immediately, but will have retroactive effect to March 1, 2020, and will remain in effect through May 31, 2020.

FOR FURTHER INFORMATION CONTACT: David Loewenstein, Director, Division of Practitioner Data Bank, Bureau of Health Workforce, HRSA, (301) 443-2300, NPDBPolicy@hrsa.gov.

SUPPLEMENTARY INFORMATION: The NPDB will waive fees retroactively from March 1, 2020, through May 31, 2020, for eligible entity queries (one-time query and continuous query). The NPDB will not refund the cost of queries performed, but can issue query credits to reimburse entities for one-time and continuous queries performed beginning March 1, 2020. Regulations regarding the NPDB are codified at 45 CFR part 60.

Thomas J. Engels,
Administrator.

[FR Doc. 2020-08080 Filed 4-16-20; 8:45 am]

BILLING CODE 4165-15-P